DEPARTMENT OF ENERGY

Federal Energy Regulatory Commission

[Project No. 12603-002]

Energy Recycling Company; Notice of Surrender of Preliminary Permit

May 14, 2008.

Take notice that Energy Recycling Company, permittee for the proposed Klamath County Pump Storage Project, has requested that its preliminary permit be terminated. The permit was issued on December 21, 2005, and would have expired on November 30, 2008.¹ The project would have been located two miles southwest of the town of Lorella, in Klamath County, Oregon.

¹ Energy Recycling Company, 113 FERC ¶ 62,225.

The permittee filed the request on April 29, 2008, and the preliminary permit for Project No. 12603 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Kimberly D. Bose,
Secretary.

[FR Doc. E8-11332 Filed 5-20-08; 8:45 am]

BILLING CODE 6717-01-P